FEDERAL MARITIME COMMISSION

[Docket No. 14-10]

Econocaribe Consolidators, Inc. v. Amoy International, LLC.; Notice of Filing of Complaint and Assignment

Notice is given that a complaint has been filed with the Federal Maritime Commission (Commission) by Econocaribe Consolidators, Inc. (Econocaribe), hereinafter “Complainant,” against Amoy International, LLC (Amoy), hereinafter “Respondents.” Complainant states that it is an Ocean Transportation Intermediary with its principal place of business in Miami, FL. Complainant alleges that Respondent Amoy is a FMC licensed Ocean Transportation Intermediary with its place of business in City of Industry, CA.

Complainant alleges that Respondent violated “46 U.S.C. 41104(2)(A), 46 U.S.C. 41102(c) and 46 CFR 515.31(e), and . . . the Shipping Act of 1984 as amended, sections 10(a)(1), (b)(1), (b)(2)(A) & (B) when it “willfully, intentionally, and knowingly misdeclared . . . cargo as new auto parts when in fact it was used baled truck tires, said misdeclaration causing it to be detained by Chinese Customs.”

Complainant requests that “Amoy be required to answer the charges herein; that, after due hearing, an order be entered commanding Amoy to cease and desist from its violations of the Shipping Act; and that Amoy be ordered to pay to Econocaribe reparations for the unlawful conduct described . . . in the sum of approximately $192,811.00, with interest and attorneys fees to be specified hereafter, as provided for under 46 U.S.C. 41305(b), and such other reparations that the Commission deems just and proper.

The full text of the complaint can be found in the Commission's Electronic Reading Room at www.fmc.gov/14-10.

This proceeding has been assigned to the Office of Administrative Law Judges. The initial decision of the presiding officer in this proceeding shall be issued by August 14, 2015 and the final decision of the Commission shall be issued by February 15, 2016.

Karen V. Gregory,
Secretary.

[FR Doc. 2014-19969 Filed 8-21-14; 8:45 am]

BILLING CODE 6730-01-P